DEPARTMENT OF COMMERCE

International Trade Administration

Announcement of Approved International Trade Administration Trade Mission

AGENCY: International Trade Administration, Department of Commerce.

The United States Department of Commerce, International Trade Administration (ITA), is announcing one upcoming trade mission that will be recruited, organized, and implemented by ITA. This mission is: Global Diversity Export Initiative (GDEI) Trade Mission to India, Singapore, and Hong Kong March 2-8, 2025.

A summary of the mission is found below. Application information and more detailed mission information, including the commercial setting and sector information, can be found at the trade mission website: https://www.trade.gov/trade-missions.

For this mission, recruitment will be conducted in an open and public manner, including publication in the Federal Register, posting on the Commerce Department trade mission calendar (https://www.trade.gov/trade-missions-schedule) and other internet websites, press releases to general and trade media, direct mail, broadcast fax, notices by industry trade associations and other multiplier groups, and publicity at industry meetings, symposia, conferences, and trade shows.

FOR FURTHER INFORMATION CONTACT: Shirreef Loza, Trade Events Task Force, International Trade Administration, U.S. Department of Commerce, telephone (919) 695-6365 or email Shirreef.Loza@trade.gov.

SUPPLEMENTARY INFORMATION:

The Following Conditions for Participation Will Be Used for the Mission

Applicants must submit a completed and signed mission application and supplemental application materials, including adequate information on their products and/or services, primary market objectives, and goals for participation that is adequate to allow the Department of Commerce to evaluate their application. If the Department of Commerce receives an incomplete application, the Department of Commerce may either: reject the application, request additional information/clarification, or take the lack of information into account when evaluating the application. If the requisite minimum number of participants is not selected for a particular mission by the recruitment deadline, the mission may be cancelled.

Each applicant must also certify that the products and services it seeks to export through the mission are either produced in the United States, or, if not, are marketed under the name of a U.S. firm and have at least fifty-one percent U.S. content by value. In the case of a trade association or organization, the applicant must certify that, for each firm or service provider to be represented by the association/organization, the products and/or services the represented firm or service provider seeks to export are either produced in the United States or, if not, marketed under the name of a U.S. firm and have at least fifty-one percent U.S. content by value.

A trade association/organization applicant must certify to the above for every company it seeks to represent on the mission. In addition, each applicant must:

• Certify that the products and services that it wishes to market through the mission would be in compliance with U.S. export controls and regulations;

• Certify that it has identified any matter pending before any bureau or office in the Department of Commerce;

• Certify that it has identified any pending litigation (including any administrative proceedings) to which it is a party that involves the Department of Commerce; and

• Sign and submit an agreement that it and its affiliates (1) have not and will not engage in the bribery of foreign officials in connection with a company's/participant's involvement in this mission, and (2) maintain and enforce a policy that prohibits the bribery of foreign officials.

In the case of a trade association/organization, the applicant must certify that each firm or service provider to be represented by the association/organization can make the above certifications.

The Following Selection Criteria Will Be Used for the Mission

Targeted mission participants are U.S. firms, services providers and trade associations/organizations providing or promoting U.S. products and services that have an interest in entering or expanding their business in the mission's destination markets. The following criteria will be evaluated in selecting participants:

• Suitability of the applicant's (or in the case of a trade association/organization, represented firm's or service provider's) products or services to these markets;

• The applicant's (or in the case of a trade association/organization, represented firm's or service provider's) potential for business in the markets, including likelihood of exports resulting from the mission; and

• Consistency of the applicant's (or in the case of a trade association/organization, represented firm's or service provider's) goals and objectives with the stated scope of the mission.

Balance of company size and location may also be considered during the review process.

Referrals from a political party or partisan political group or any information, including on the application, containing references to political contributions or other partisan political activities will be excluded from the application and will not be considered during the selection process. The applicant will be notified of these exclusions. The Department of Commerce will evaluate applications and inform applicants of selection decisions on a rolling basis until the maximum number of participants has been selected.

Definition of Small- and Medium-Sized Enterprise

For purposes of assessing participation fees, an applicant is a small or medium-sized enterprise (SME) if it qualifies as a “small business” under the Small Business Administration's (SBA) size standards (https://www.sba.gov/document/support--table-size-standards), which vary by North American Industry Classification System (NAICS) Code. The SBA Size Standards Tool (https://www.sba.gov/size-standards) can help you determine the qualifications that apply to your company.

Mission List: (additional information about trade missions can be found at https://www.trade.gov/trade-missions).

Global Diversity Export Initiative (GDEI) Trade Mission to India, Singapore, and Hong Kong—March 2-8, 2025

Summary

The United States Department of Commerce, International Trade Administration (ITA), U.S. and Foreign Commercial Service (USFCS) is organizing a Global Diversity Export Initiative (GDEI) Trade Mission to India, Singapore, and Hong Kong that will include the Export Markets Providing Opportunities for Women's Economic Rise (EMPOWER) Asia Business Conference in Bengaluru, India, Monday, March 3-Tuesday, March 4, 2025. The mission is focused on expanding export opportunities for U.S. businesses that are founded, led, operated, or owned by members of underserved communities from industries with growing potential in India, Singapore, and Hong Kong, but is open to all export-ready U.S. companies.

All trade mission members will participate in the EMPOWER Asia Business Conference, which will also be open to U.S. companies not participating in the trade mission. On Monday, March 3, the EMPOWER Asia Business Conference will include country briefings, a networking lunch, afternoon workshops and one-on-one meetings with key service providers and U.S. diplomats and/or industry specialists, information and material on trade-related resources, and an evening networking reception. On Tuesday, March 4, the second day of business conference, participants will take apart in plenary session, break-out sessions, meeting with U.S. diplomats from the region, and workshops. On Tuesday afternoon, participants who elect India as one of their trade mission stops will engage in business-to-business (B2B) meetings in Bengaluru, India. Wednesday, March 5, will be a travel day for trade mission participants who elect trade mission stop(s) in Singapore (Thursday, March 6) and/or Hong Kong (Friday, March 7).

Trade mission participants may apply to participate one, two, or three trade mission stops. Each trade mission stop will include one-on-one business appointments with pre-screened potential buyers, agents, distributors and joint-venture partners, and networking events.

Recruitment and consideration will be extended to all export-ready U.S. companies, including small businesses, trade associations, and other exporting organizations that meet the established criteria for participation in the mission. This mission is focused on expanding export opportunities to U.S. small and medium-sized businesses that are founded, led, operated, or owned by leaders from underserved communities with growing potential in India, Singapore, and Hong Kong. The mission is horizontal, with various sectors represented, based on best prospects for U.S. companies in the region.

Best prospect sectors *:

• Information and Communication Technology (ICT) sector and subsectors:

○ cybersecurity

○ smart city infrastructure and technology solutions

○ artificial intelligence markets and cloud computing

• Finance and FinTech

• Healthcare & Biotechnology

• Clean Energy

• Environmental Technology

• Critical and Emerging Technologies

• Aerospace and Defense, and Space

* Other sectors will not be excluded.

Recruitment and consideration will be extended to all export-ready U.S. companies, including small businesses, trade associations and other exporting organizations that meet the established criteria for participation in the mission. In keeping with the U.S. Department of Commerce's Equity Action Plan, ITA seeks to improve outreach to and representation of businesses with owners and/or leaders from underserved communities, including through the Global Diversity Export Initiative of the U.S. Commercial Service. This mission will expand access to export opportunities to U.S. small and medium-sized businesses, including those founded, led, operated, or owned by members of underserved communities from industries with growing potential in India, Singapore, and Hong Kong.

This mission is designed to be responsive to the priorities stated by Secretary of Commerce Gina Raimondo and outlined in the Equity Action Plan released in April 2022 which aspires to “harness the talents and strengths of all parts of the country, including women, people of color, and others who are too often left behind” including by “[s]trengthen[ing] small businesses in underserved communities by helping them be successful exporters.”

In line with the Biden-Harris Administration Executive Orders ¹ and the National Export Strategy chapter on bolstering export assistance for small businesses and underserved communities, the GDEI has increased awareness and participation of diverse companies in the export ecosystem. With almost 272,000 U.S. small and medium-sized businesses exporting, the limited number of companies from underserved communities participating in international trade is in stark contrast with the total universe of exporters. According to the most recent Census data (2021), from a sample of approximately 146,000 firms that export, 15 percent are women-owned; 6 percent are Hispanic-owned; 6 percent are Veteran-owned; and 1 percent are Black or African American-owned firms. The Department of Commerce, through events such as this mission seeks to continue to scale the next generation of innovation, maintain global competitiveness, and ensure that more diverse businesses benefit from harnessing the potential of exports. Additionally, based on the 2020-2021 Census Bureau Profile of U.S. Importing and Exporting Companies and the 2022 Annual Business Survey, India, Singapore, and Hong Kong were not in the top 10 export markets ranked for women-owned, Hispanic American-owned, and Native American-owned small and medium sized-businesses, while India ranked as the 8th top export market for veteran-owned small and medium-sized businesses and the 10th top export market for Black or African American-owned small and medium-sized businesses and Singapore ranked as the 8th top market for Native Hawaiian and other Pacific Islander-owned small and medium-sized businesses, indicating room for growth in the region. The EMPOWER Asia initiative surveying women-owned businesses also ranks India as a top 4 “Desirable” market. Survey participants also emphasized the need for specific knowledge while entering the Asian market, including e-commerce, financing, regulatory compliance, and supply chain resilience. This trade mission in conjunction with the EMPOWER Asia Business conference will help address an urgent demand to have region-specific training combined with networking, consultations, and exposure to new opportunities to unlock these key portals to the South Asia region.

¹ This mission is in alignment with Executive Order 13985 on Advancing Racial Equity and Support for Underserved Communities Through the Federal Government (January 25, 2021) (E.O. 13985), Executive Order 14091 on Further Advancing Racial Equity and Support for Underserved Communities Through the Federal Government (February 22, 2022) (E.O. 14091), Executive Order 14020 on the Establishment of the White House Gender Policy Council (March 11, 2021) (E.O. 14020), and the Global Diversity Export Initiative of the U.S. Commercial Service.

For the purposes of the trade mission, ITA adopts the definition of “underserved communities” in E.O. 14020, incorporated into E.O. 14091: “populations sharing a particular characteristic, as well as geographic communities, that have been systematically denied a full opportunity to participate in aspects of economic, social, and civic life, as exemplified by the list in the preceding definition of “equity.” “Equity” is defined as “the consistent and systematic fair, just, and impartial treatment of all individuals, including individuals who belong to underserved communities that have been denied such treatment, such as women and girls; Black, Latino, and Indigenous and Native American persons, Asian Americans and Pacific Islanders and other persons of color; members of religious minorities; lesbian, gay, bisexual, transgender, and queer (LGBTQ+) persons; persons with disabilities; persons who live in rural areas; and persons otherwise adversely affected by persistent poverty or inequality.”

The Minority Business Development Agency finds that “[ex]xporting creates a competitive advantage for all Minority Business Enterprises (MBEs), regardless of home country” and “significant engagement in international sales and trade, leads to stronger businesses, creates new jobs, and in the long-term, contributes to the sustainability of the commercial ecosystems necessary to create thriving communities.”

Website: Please visit our official mission website for more information: https://events.trade.gov/TradeGov/GDEITradeMissiontoIndiaSingaporeandHongKong/.

Proposed Timetable

This timetable allows for clients to take part in business matchmaking across the diverse Asian marketplace by offering scheduled business-to-business meetings in India, Singapore, and Hong Kong. This structure ensures that each post has set days for meetings that allow the clients to explore at least three of their best prospects for business. The final schedule will depend on the availability of host government and business officials, specific goals of mission participants, and ground transportation.

Sunday, March 2, 2025 | Trade mission participants arrive in Bengaluru, India.
Monday, March 3, 2025 | Bengaluru: EMPOWER Asia Business Conference.
| Morning: Opening plenary, country briefings, and networking lunch with key service providers and U.S. diplomats and/or industry specialists.
| Afternoon: Asia region Commercial Officer one-on-ones and workshops and panel discussions.
| Evening: Networking Reception.
Tuesday, March 4, 2025 | Bengaluru: EMPOWER Asia Business Conference (con't):
| Morning: Plenary Session. Asia region Commercial Officer one-on-ones, workshops and panel discussions.
| Mid-day: Closing Session and Lunch.
| India Trade Mission Stop:
| Afternoon: Selected participants will participate in B2B meetings with pre-screened potential buyers, agents, distributors, or joint-venture partners in India.
| Evening: Social/Cultural Activity.
Wednesday, March 5, 2025 | Travel to Singapore and/or Hong Kong.
Thursday, March 6, 2025 | Singapore Trade Mission Stop:
| • Country Briefings Singapore.
| • B2B Meetings.
| • Travel to Hong Kong, if elected as Trade Mission Stop.
| Hong Kong Trade Mission Stop:
| • Rest Day.
Friday, March 7, 2025 | Hong Kong Trade Mission Stop:
| • Country Briefings Hong Kong.
| • B2B Meetings.
| • Reception.
Saturday, March 8, 2025 | Optional Cultural Program in Hong Kong for Hong Kong Participants.

Participation Requirements

All parties interested in participating in the GDEI Trade Mission to India, Singapore, and Hong Kong must complete and submit an application package for consideration by the U.S. Department of Commerce. All applicants will be evaluated on their ability to meet certain conditions and best satisfy the selection criteria as outlined above. A minimum of 10 and a maximum of 25 firms and/or trade associations will be selected to participate in the mission on a rolling basis. Mission stop participation will be limited as follows:

India: 15.

Singapore: 10.

Hong Kong: 10.

Additional delegates may be accepted based on available space. U.S. firms and/or trade associations already doing business in India, Singapore, and/or Hong Kong or seeking business in these markets for the first time may apply.

Fees and Expenses

After a firm or trade association has been selected to participate on the trade mission, a payment to the Department of Commerce in the form of a participation fee is required. The fees are as follows:

• The participation fee will be $3,500 for small or medium-sized enterprises (SME) and $6,225 for large firms, which includes the EMPOWER Asia Business Conference in Bengaluru and one mission stop. Additional participants will be $1,000 per participant.

• If a second stop/market is selected for B2B meetings, the total participation fee will be $5,000 for small and medium-sized enterprises (SME) and $8,750 for large firms. Additional participants will be $1,750 total per participant.

• If all three stops/markets are selected for B2B meetings, the total participation fee will be $6,500 for small and medium-sized enterprises (SME) and $11,275 for large firms. Additional participants will be $2,500 total per participant.

If and when an applicant is selected to participate on a particular mission, a payment to the Department of Commerce in the amount of the designated participation fee is required. Upon notification of acceptance to participate, those selected have 5 business days to submit payment or the acceptance may be revoked.

Participants selected for a trade mission will be expected to pay for the cost of personal expenses, including, but not limited to, international travel, lodging, meals, transportation, communication, and incidentals, unless otherwise noted. Participants will, however, be able to take advantage of U.S. Government rates for hotel rooms. In the event that a mission is cancelled, no personal expenses paid in anticipation of a mission will be reimbursed. However, participation fees for a cancelled mission will be reimbursed to the extent they have not already been expended in anticipation of the mission.

If a visa is required to travel on a particular mission, applying for and obtaining such a visa will be the responsibility of the mission participant. Government fees and processing expenses to obtain such a visa are not included in the participation fee. However, the Department of Commerce will provide instructions to each participant on the procedures required to obtain business visas.

Trade mission members participate in trade missions and undertake mission-related travel at their own risk. The nature of the security situation in a given foreign market at a given time cannot be guaranteed. The U.S. Government does not make any representations or guarantees as to the safety or security of participants. The U.S. Department of State issues U.S. Government international travel alerts and warnings for U.S. citizens available at https://travel.state.gov/content/passports/en/alertswarnings.html. Any question regarding insurance coverage must be resolved by the participant and its insurer of choice.

Travel and in-person activities are contingent upon the safety and health conditions in the United States and the mission countries. Should safety or health conditions not be appropriate for travel and/or in-person activities, the Department will consider postponing the event or offering a virtual program in lieu of an in-person agenda. In the event of a postponement, the Department will notify the public and applicants previously selected to participate in this mission will need to confirm their availability but need not reapply. Should the decision be made to organize a virtual program, the Department will adjust fees accordingly, prepare an agenda for virtual activities, and notify the previously selected applicants with the option to opt-in to the new virtual program.

Timeframe for Recruitment and Applications

Mission recruitment will be conducted in an open and public manner, including publication in the Federal Register, posting on the Department of Commerce trade mission calendar (https://www.trade.gov/trade-missions) and other internet websites, press releases to general and trade media, direct mail, notices by industry trade associations and other multiplier groups, and publicity at industry meetings, symposia, conferences, and trade shows. Recruitment for the mission will begin immediately and conclude no later than December 4, 2024. The Department of Commerce will review applications and inform applicants of selection decisions on a rolling basis until the maximum number of participants has been selected. Applications received after December 4, 2024, will be considered only if space and scheduling constraints permit.

Contacts

U.S. Contact Information

Nicolas Cervantes, Director, U.S. Commercial Service Harrisburg, PA, Nicolas.Cervantes@trade.gov, Tel: 717-678-5275

India Contact Information

Carey Arun, Principal Commercial Officer, U.S. Commercial Service India—Bengaluru Carey.Arun@trade.gov, Tel: +91-44-2857-4477, Anastasia Mukherjee, Commercial Officer, U.S. Commercial Service India—New Delhi, Anastasia.Mukherjee@trade.gov, Tel: +91-11-2347-2000

Gemal Brangman,
Director, ITA Events Management Task Force.

[FR Doc. 2024-22969 Filed 10-3-24; 8:45 am]

BILLING CODE 3510-DR-P